DEPARTMENT OF HEALTH AND HUMAN SERVICES

Health Resources and Services Administration

Statement of Organization, Functions and Delegations of Authority

This notice amends Part R of the Statement of Organization, Functions and Delegations of Authority of the Department of Health and Human Services (HHS), Health Resources and Services Administration (HRSA) (60 FR 56605, as amended November 6, 1995; as last amended at 75 FR 12559 dated March 16, 2010).

This notice reflects organizational changes in the Health Resources and Services Administration. Specifically, this notice updates the functional statement for the Office of Acquisitions Management and Policy (RB3) within the Office of Operations (RB).

Chapter RB3, Office of Acquisitions Management and Policy

Section RB3-10, Organization

Delete in its entirety and replace with the following:

The Office of Acquisitions Management and Policy (RB3) is headed by the Director who reports directly to the Chief Operating Officer, Health Resources and Services Administration. The Office of Acquisitions Management and Policy (RB3) includes the following components:

(1) Immediate Office of the Director (RB3);

(2) Division of Contract Services for Primary Care, Health Systems and

Clinician Recruitment and Retention (RB35);

(3) Division of Contract Services for Maternal and Child Health and

Administrative Support Offices (RB36);

(4) Division of Contact Services for HIV/AIDS, Health Professions, Rural Health and Grants Management (RB37); and

(5) Division of Contracts Administration (RB38).

Section RB3-20, Functions

(1) Delete the functions for the Office of Acquisitions Management and Policy (RB3) in its entirety and replace with the following:

Office of Acquisitions Management and Policy (RB3)

(1) Provides leadership in the planning, development, and implementation of policies and procedures for contracts; (2) exercises the sole responsibility within HRSA for the award and management of contracts; (3) provides advice and consultation of interpretation and application of the Department of Health and Human Services' policies and procedures governing contracts management and inter/intra agency agreements; (4) develops operating procedures and policies for the Agency's contracts programs and inter/intra agency agreements; (5) establishes standards, guides and evaluation procedures for contract operations throughout the Agency; (6) coordinates the Agency's positions and actions with respect to the audit of contracts; (7) maintains liaison directly with or through Agency Bureaus or Offices with contractors, other organizations, and various components of the Department; (8) provides leadership, guidance, and advice on the promotion of the activities in HRSA relating to procurement and material management governed by the Small Business Act of 1958, Executive Order 11625, other statutes and national policy directives for augmenting the role of private industry, small and minority businesses as sources of supply to the Government and Government contractors; and (9) plans, directs, and coordinates the Agency's sourcing program.

Division of Contract Services for Primary Care, Health Systems and Clinician Recruitment and Retention (RB35)

(1) Responsible for providing comprehensive acquisition services including planning, soliciting, negotiating, awarding, and administering simplified and negotiated procurement actions tailored to the following functions in HRSA:

a. Funding health centers in communities, providing access to high quality, family oriented, comprehensive primary and preventive health care for people who are low income, uninsured, or living where health care is scarce;

b. Helping underserved communities and facilities experiencing critical shortages of health care providers, recruit and retain clinicians through scholarship and educational loan repayment opportunities in exchange for service; and

c. Protecting the public health and promoting practices that improve personal health, including organ, bone marrow and cord blood donation.

(2) Ensures compliance with Federal laws and regulations, departmental and Agency guidelines, policies and procedures; (3) utilizes the automated contracts reporting systems including data input, data accuracy assessments, review and correction of data reports; (4) provides professional, in-depth advice and consultation, customized to the Bureaus/Offices named above, regarding the appropriate contract vehicles and the various phases of the acquisition cycle; (5) conducts pre-award reviews of proposed contracts that exceed the requirements called for in the Federal and departmental acquisition regulations in conjunction with the other Contract Services Customer Divisions; (6) plans and coordinates acquisition reviews of contracting activities within HRSA headquarters and the field components; and (7) responds to congressional inquiries and requests for acquisition information from other Federal agencies and non-Federal sources.

Division of Contract Services for Maternal and Child Health and Administrative Support Offices (RB36)

(1) Responsible for providing comprehensive acquisition services including planning, soliciting, negotiating, awarding, and administering simplified and negotiated procurement actions tailored to the following functions in HRSA:

a. Improving the health of mothers, children and their families as authorized under Title V of the Social Security Act;

b. Information technology services including translating HRSA business needs into effective technical solutions, using proven methodologies to minimize costs, reduce risks, and shorten application development times;

c. Financial and operational services including budget execution and formulation, procurement, facilities, workforce management, issuance of financial policies, managing HRSA's internal and external communications, coordinating HRSA's actions on legislation, special health affairs, equal opportunity, civil rights and diversity management, planning analysis and evaluation; and

d. Partnering with key stakeholders in regions around the Nation to increase access to quality health care, reduce disparities and improve various dimensions of public health.

(2) Ensure compliance with Federal laws and regulations, departmental and Agency guidelines, policies and procedures; (3) utilizes the automated contracts reporting systems including data input, data accuracy assessments, review and correction of data reports; (4) provides professional, in-depth advice and consultation, customized to the Bureaus/Offices named above, regarding the appropriate contract vehicles and the various phases of the acquisition cycle; (5) conducts pre-award reviews of proposed contracts that exceed the requirements called for in the Federal and departmental acquisition regulations in conjunction with the other Contract Services Customer Divisions; (6) plans and coordinates acquisition reviews of contracting activities within HRSA headquarters and the field components; and (7) responds to congressional inquiries and requests for acquisition information from other Federal agencies and non-Federal sources.

Division of Contract Services for HIV/AIDS, Health Professions, Rural Health and Grants Managements (RB37)

(1) Responsible for providing comprehensive acquisition services including planning, soliciting, negotiating, awarding, and administering simplified and negotiated procurement actions tailored to the following functions in HRSA:

a. Increasing the access to health care by developing, distributing and retaining a diverse, culturally competent health workforce;

b. Administering the Ryan White HIV/AIDS Program, the largest Federal program focused exclusively on HIV/AIDS care;

c. Providing grant funding information and services; and

d. Promoting better health care service and seeking solutions to health care problems in rural America.

(2) Ensure compliance with Federal laws and regulations, departmental and Agency guidelines, policies and procedures; (3) utilizes the automated contracts reporting systems including data input, data accuracy assessments, review and correction of data reports; (4) provides professional, in-depth advice and consultation, customized to the Bureaus/Offices named above, regarding the appropriate contract vehicles and the various phases of the acquisition cycle; (5) conducts pre-award reviews of proposed contracts that exceed the requirements called for in the Federal and departmental acquisition regulations in conjunction with the other Contract Services Customer Divisions; (6) plans and coordinates acquisition reviews of contracting activities within HRSA headquarters and the field components; and (7) responds to congressional inquiries and requests for acquisition information from other Federal agencies and non-Federal sources.

Division of Contracts Administration (RB38)

(1) Administers the training and certification programs in collaboration with HRSA's programs and offices for HRSA's Contracting Officers' Technical Representatives (COTRS), FAC-C acquisition professionals, and P/PM Program Managers; (2) administers and oversees HRSA's automated contracts reporting systems; (3) manages the inter/intra agency agreement process; (4) manages the close out process of negotiated and simplified acquisition actions and other related actions; (5) conducts and monitors the performance of the HRSA purchase card program for headquarters, satellite contracts office, and regional field offices; (6) develops and implements policies, procedures, and other internal controls in compliance with Federal, departmental, and Agency acquisition laws, regulations, policies and procedures; (7) coordinates and responds to acquisition-related information requests including congressional inquiries and requests for information from other departments and non-Federal sources; (8) conducts cost analysis for HRSA's acquisition actions in coordination with the Contract Services Divisions of OAMP; and (9) conducts independent reviews and analysis requested by external and internal customers.

Section RB3-30, Delegations of Authority

All delegations of authority and re-delegations of authority made to HRSA officials that were in effect immediately prior to this reorganization, and that are consistent with this reorganization, shall continue in effect pending further re-delegation.

This reorganization is effective upon signature.

Dated: June 17, 2010.
Mary K. Wakefield,
Administrator.

[FR Doc. 2010-15253 Filed 6-23-10; 8:45 am]

BILLING CODE 4165-15-P